DEPARTMENT OF TRANSPORTATION

Pipeline and Hazardous Materials Safety Administration

[Docket No. PHMSA-2009-0049]

Pipeline Safety: Request for Special Permit

AGENCY: Pipeline and Hazardous Materials Safety Administration (PHMSA); DOT.

ACTION: Notice.

SUMMARY: Pursuant to the Federal pipeline safety laws, PHMSA is publishing this notice of a special permit request we have received from a hazardous liquid pipeline operator, seeking relief from compliance with certain tank inspection requirements in the Federal pipeline safety regulations. This notice seeks public comments on this request, including comments on any environmental impacts. At the conclusion of the 30-day comment period, PHMSA will evaluate the request and determine whether to grant or deny a special permit.

DATES: Submit any comments regarding this special permit request by April 8, 2009.

ADDRESSES: Comments should reference the docket number for the special permit request and may be submitted in the following ways:

• E-Gov Web Site: http://www.Regulations.gov. This site allows the public to enter comments on any Federal Register notice issued by any agency.

• Fax: 1-202-493-2251.

• Mail: Docket Management System: U.S. Department of Transportation, Docket Operations, M-30, West Building Ground Floor, Room W12-140, 1200 New Jersey Avenue, SE., Washington, DC 20590.

• Hand Delivery: DOT Docket Management System: U.S. Department of Transportation, Docket Operations, M-30, West Building Ground Floor, Room W12-140, 1200 New Jersey Avenue, SE., Washington, DC 20590 between 9 a.m. and 5 p.m., Monday through Friday, except Federal holidays.

Instructions: You should identify the docket number for the special permit request you are commenting on at the beginning of your comments. If you submit your comments by mail, submit two copies. To receive confirmation that PHMSA received your comments, include a self-addressed stamped postcard. Internet users may submit comments at http://www.Regulations.gov.

Note: Comments are posted without changes or edits to http://www.Regulations.gov, including any personal information provided. There is a privacy statement published on http://www.Regulations.gov.

FOR FURTHER INFORMATION CONTACT: General: Kay McIver by telephone at (202) 366-0113; or, e-mail at kay.mciver@dot.gov.

Technical: Steve Nanney by telephone at (713) 272-2855; or, e-mail at steve.nanney@dot.gov.

SUPPLEMENTARY INFORMATION: PHMSA has filed in the Federal Docket Management System (FDMS) this request for special permit we have received from a pipeline operator seeking relief from compliance with certain pipeline safety regulations along with technical analysis provided by the requester. The request has been assigned a separate docket number in the FDMS. We invite interested persons to participate by reviewing this special permit request at http://www.Regulations.gov, and by submitting written comments, data or other views. Please include any comments on environmental impacts granting the special permit may have.

Before acting on this special permit request, PHMSA will evaluate all comments received on or before the comment closing date. We will consider comments received after this date if it is possible to do so without incurring additional expense or delay. PHMSA will consider any comments we receive in making our decision to grant or deny a request.

PHMSA has received the following special permit request:

Docket No. | Requester | Regulation(s) | Nature of special permit
PHMSA-2009-0043 | Plains Pipeline, L.P. | 49 CFR 195.432 (d) | To authorize Plains Pipeline, L.P., an 18 months extension of the requirement to perform API 653 out of service (OOS) inspections on (33) thirty-three above ground storage tanks. Total BBL of 3,197,180 barrels. These tanks are located in Louisiana, Alabama, Mississippi, Oklahoma, New Mexico and Texas. The completion of inspection service is due by May 3, 2009.

Authority: 49 U.S.C. 60118(c)(1) and 49 CFR 1.53.

Issued in Washington, DC on February 27, 2009.
Jeffrey D. Wiese,
Associate Administrator for Pipeline Safety.

[FR Doc. E9-5011 Filed 3-6-09; 8:45 am]

BILLING CODE 4910-60-P